DEPARTMENT OF COMMERCE

National Oceanic and Atmospheric Administration

RIN 0648-XV006

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific & Statistical Committee to consider actions affecting New England fisheries in the exclusive economic zone (EEZ). Recommendations from this group will be brought to the full Council for formal consideration and action, if appropriate.

DATES: This meeting will be held on Wednesday, August 21, 2019, beginning at 9 a.m.

ADDRESSES:

Meeting address: The meeting will be held at the Hotel Providence, 139 Matthewson Street, Providence, RI; phone: (401) 490-8000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scientific and Statistical Committee will develop acceptable biological catch (ABC) and overfishing level (OFL) recommendations for the fishery management plan (FMP) for Monkfish for fishing years 2020-22, Deep-sea Red Crab fishing years 2020-22, and the Skate Complex. They also will develop ABC and OFL recommendations for Georges Bank yellowtail flounder, which is managed under the Northeast Multispecies FMP for fishing years 2020-21. Additionally, the SSC may discuss internal organizational issues. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency. The public also should be aware that the meeting will be recorded, consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: July 23, 2019.
Tracey L. Thompson,
Acting Deputy Director, Office of Sustainable Fisheries, National Marine Fisheries Service.

[FR Doc. 2019-15901 Filed 7-25-19; 8:45 am]

BILLING CODE 3510-22-P